DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before December 15, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on November 3, 2023.
Donald P. Burger,
Chief, General Approvals and Permits Branch.

Special Permits Data—Granted
Application number | Applicant | Regulation(s) affected | Nature of the special permits thereof
11911-M | Transfer Flow, Inc | 177.834(h), 178.700(c)(1) | To modify the special permit to revise the “safe zone” definition.
14232-M | Luxfer Inc | 173.302(a), 173.304(a), 180.205 | To modify the special permit to authorize Modal Acoustic Emission testing of cylinders.
15642-M | Linde Gas & Equipment Inc | 172.203(a), 180.205(c), 180.209(a), 180.209(b), 180.209(b)(1)(iv) | To modify the special permit to extend the initial periodic requalification period of DOT 3AL and DOT-SP 12440 cylinders from 5 years to 10 years and to authorize certain newly manufactured DOT 3AL cylinders to be used in dedicated dry-gas service.
20351-M | Roeder Cartage Company, Incorporated | 180.407(c), 180.407(e), 180.407(f) | To modify the special permit to remove unit numbers 7145 and 7133.
21139-M | KULR Technology Corporation | 172.600, 172.200, 172.300, 172.700(a), 172.400, 172.500, 173.185(b) | To modify the special permit to authorize an alternative shipping document, to remove the reference to ferry vessel operations, and to clarify the requirement in paragraph 7.b.(2).
21460-M | Amerex Corporation | 173.309(c) | To modify the special permit to authorize an additional extinguisher model.
21542-N | Samsung SDI Co., Ltd | 172.101(j) | To authorize the transportation in commerce of lithium batteries exceeding 35 kg by cargo-only aircraft.
21582-N | ABG Bag, Inc | 172.102, 173.36(b)(2), 173.241(e)(1) | To authorize the manufacture, mark, sale, and use of UN 51H large packagings for the purpose of transporting polychlorinated biphenyls by motor vehicle.
21651-N | Australian Federal Police | 172.700(a), 172.400, 172.200, 172.300, 175.75(b) | To authorize the transportation in commerce of Division 6.1 hazardous materials in the cabin of a passenger-carrying aircraft.
21653-N | Environmental Protection Agency | 172.400, 172.101, 173.27, 178.2 | To authorize the transportation in commerce of unclassified waste materials to a staging area where the materials will be classified and brought into compliance with the Hazardous Materials Regulations (HMR).

Special Permits Data—Granted
Application number | Applicant | Regulation(s) affected | Nature of the special permits thereof
15882-M | Ryan Air, Inc | 172.101, 173.27, 173.243 | To modify the special permit to add a C-208 to carry bulk fuel in a 476-galon BATT Tank.

Special Permits Data—Granted
Application number | Applicant | Regulation(s) affected | Nature of the special permits thereof
20245-M | Jaguar Texas Valve & Instruments, LLC | 173.302(a), 173.304(a) | To modify the special permit to authorize a cylinder with an increased length.
20251-M | Salco Products Inc | 172.203(a), 178.345-1, 180.413 | To modify the special permit to authorize additional manway configurations. (mode 1).
21555-N | Hach Company | 172.301(c), 172.315 | To authorize the transportation in commerce of certain Division 5.1, Class 8, and Class 9 materials between Hach Company facilities without having to apply the limited quantity marking each individual package when consolidated into an overpack displaying the limited quantity mark.
21620-N | 3rd Light, LLC | 172.200(a), 172.320(a), 172.400(a), 172.500(a), 173.60(a), 173.63(b) | To authorize the transportation in commerce of Ultimate Match life-saving devices as limited quantities.
21645-N | Flint Hills Resources, LLC | 172.203(a), 173.120(c)(1)(ii)(A) | To authorize the transportation in commerce of flammable liquids and combustible liquids classed using an alternative test method (ASTM D7094-17a) that is not currently authorized in § 173.120(c) for determining a liquid's flash point.
21647-N | Airbus U.S. Space & Defense, Inc | 172.101(j)(1), 173.301(f), 173.302a(a)(1), 173.302a(a)(3), 173.304a(a)(2) | To authorize the transportation in commerce of certain non-DOT specification containers containing certain Division 2.2 and 2.3 hazardous materials identified in paragraph 6 of this special permit for the use in satellites.

[FR Doc. 2023-25170 Filed 11-14-23; 8:45 am]

BILLING CODE 4910-60-P